DEPARTMENT OF LABOR

Employment and Training Administration

[TA-W-53,847]

Chicago Rawhide, Franklin, North Carolina; Notice of Termination of Investigation

Pursuant to section 221 of the Trade Act of 1974, as amended, an investigation was initiated on December 19, 2003, in response to a petition filed by a company official on behalf of workers at Chicago Rawhide, Franklin, North Carolina.

The petitioner has requested that the petition be withdrawn. Consequently, the investigation has been terminated.

Signed at Washington, DC, this 28th day of January, 2004.
Linda G. Poole,
Certifying Officer, Division of Trade Adjustment Assistance.

[FR Doc. 04-3327 Filed 2-13-04; 8:45 am]

BILLING CODE 4510-30-P